DEPARTMENT OF AGRICULTURE

Food and Nutrition Service

Agency Information Collection Activities: Team Nutrition Database

AGENCY: Food and Nutrition Service (FNS), USDA.

ACTION: Notice.

SUMMARY: In accordance with the Paperwork Reduction Act of 1995, this notice invites the general public and other public agencies to comment on this proposed information collection. This is a revision of a currently approved collection and the information collected is used to facilitate a communication network among organizations participating in the Child and Adult Care Food Program (CACFP) and schools participating in the National School Lunch Program (NSLP) and School Breakfast Program (SBP). This communication network is implemented under the Team Nutrition initiative of the United States Department of Agriculture's (USDA) Food and Nutrition Service (FNS), Child Nutrition Programs.

DATES: Written comments must be received on or before May 3, 2021.

ADDRESSES: Comments may be sent to: Kaylyn Padovani, Food and Nutrition Service, U.S. Department of Agriculture, 1320 Braddock Place, 4th Floor Alexandria, VA 22314. Comments may also be submitted via email to the attention of Kaylyn Padovani at TeamNutrition@usda.gov with “Team Nutrition Database Comments” in the subject line. Comments will also be accepted through the Federal e-Rulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Kaylyn Padovani at TeamNutrition@usda.gov or by telephone at (703) 305-2078.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Team Nutrition Database.

Form Number: FNS 891 (Team Nutrition Schools) and FNS 892 (Team Nutrition CACFP Organizations).

OMB Number: 0584-0642.

Expiration Date: 10/31/2021.

Type of Request: Revision of a Currently Approved Collection.

Abstract: Team Nutrition is an initiative of the United States Department of Agriculture's Food and Nutrition Service to support national efforts to promote lifelong healthy food choices and physical activity by improving the nutrition practices of the Child Nutrition Programs, including the Child and Adult Care Food Program (CACFP), the National School Lunch Program (NSLP) and the School Breakfast and Special Milk Programs (SBP and SMP), in addition to the Fresh Fruit and Vegetable Program (FFVP), Afterschool Snacks, and Seamless Summer Option (SSO). This initiative provides resources to schools, child care settings, and summer meal and afterschool sites that participate in these programs.

Team Nutrition applies the social cognitive theory to change behavior through three main strategies. The first is to provide training and technical assistance to child nutrition professionals to enable them to prepare and serve nutritious meals that appeal to children. Team Nutrition also increases opportunities for nutrition education through multiple communication channels to help children gain the knowledge, skills, and motivation to make healthy food and physical activity choices as part of a healthy lifestyle. Finally, Team Nutrition helps to build and bolster support for healthy school and child care environments that encourage nutritious food choices and physically active lifestyles.

Since 1995, Team Nutrition has collected information from schools via the Team Nutrition Database to communicate releases and updates of Team Nutrition resources. In order to reach CACFP program operators and providers, FNS expanded the database in December 2018 to collect the contact information of interested CACFP organizations (such as sponsoring agencies and independent child care centers). Those eligible entities that choose to input their information into the database, via the online Team Nutrition Schools enrollment form (https://www.fns.usda.gov/tn/schools) or Team Nutrition CACFP Organization enrollment form (https://www.fns.usda.gov/tn/cacfp), will receive electronic correspondence, such as bimonthly newsletters and promotions. These communications announce the availability of new and updated Team Nutrition materials that support nutrition education and provide technical assistance to foster a positive healthy environment. This database allows the opportunity for the enrolled entities to affirm their commitment to childhood nutrition and wellness while also providing the opportunity to collaborate with other peers.

Since the previous renewal in 2018, the burden of this information collection has decreased due to changes in the number of respondents who are providing information. FNS has removed the school county field from the Team Nutrition Schools form because many participants did not complete this field. FNS has made no changes to the collection instrument for Team Nutrition CACFP Organizations or to the reminder notifications. Lastly, the title of this collection has been renamed from “Contact Information of Schools that Participate in the National School Lunch Program and Organizations that Participate in the USDA's Child and Adult Care Food Program” to “Team Nutrition Database” as it is commonly known.

The collection of the school and CACFP organization contact information is currently approved under OMB Control #0584-0642, which expires on October 31, 2021. FNS wants to extend this data collection to continue the customer service provided to these entities. Once this information collection request has been reviewed and approved by the Office of Management and Budget (OMB), FNS will update the collection with the new expiration date.

Affected Public: Business or Other For Profit; Not For Profit; and State, Local and Tribal Government: Respondent groups identified include: (1) Organizations that have a CACFP agreement with the States and (2) Schools that participate in the NSLP.

Estimated Number of Respondents: The total estimated number of respondents is approximately 122,130 (22,130 are CACFP organizations and 100,000 are schools). For CACFP organizations, the total is broken down as follows: 19,662 CACFP sponsors; centers only; 674 CACFP sponsors of all home care; and 1,794 CACFP sponsors of adult care.

Estimated Number of Responses per Respondent: The total estimated number of responses per respondent for the entire collection is 3. The CACFP's organization and the schools will be asked to voluntarily complete one (1) enrollment form and submit changes as needed.

Estimated Total Annual Responses: 366,390.

Estimated Time per Response: The estimated time of response varies from 0.0835 to 0.25 hour (5-15 minutes), with an average estimated time of 0.097 (approximately 5.82 minutes) for all participants.

Estimated Total Annual Burden on Respondents: 354,484 hours. See the table below for estimated total annual burden for each type of respondent.

Affected public | Respondent | Estimated number respondent | Responses annually per respondent | Total annual responses (col. bxc) | Estimated avg. number of hours per response | Estimated total hours (col. dxe)
| Reporting Burden |  |  |  |  |
Businesses or Other for Profit, Not-for-Profit | CACFP Organizations (completed form)-CACFP Sponsors: Centers Only | 19,662 | 1 | 19,662 | 0.25 | 4,915.5
| CACFP Organizations (completed form)—CACFP Sponsors of All Home Care | 674 | 1 | 674 | 0.25 | 168.5
| CACFP Organizations (completed form)—CACFP Sponsors of Adult Care | 1,794 | 1 | 1,794 | 0.25 | 448.5
| CACFP Organizations (updated form)—All | 22,130 | 1 | 22,130 | 0.0835 | 1,847.9
| CACFP Organizations (reminder notification) | 22,130 | 1 | 22,130 | 0.025 | 553.3
Subtotal of Businesses or Other for Profit, Not-for Profit |  | 22,130 |  | 66,390 |  | 7,933.6
| Schools (completed form) | 100,000 | 1 | 100,000 | 0.167 | 16,700
| Schools (updated form) | 100,000 | 1 | 100,000 | 0.0835 | 8,350
| Schools (reminder notification) | 100,000 | 1 | 100,000 | 0.025 | 2,500
Subtotal for State, Local, or Tribal Government |  | 100,000 |  | 300,000 |  | 27,550
| Total Reporting Burden | 122,130 |  | 366,390 |  | 35,484

Cynthia Long,
Acting Administrator, Food and Nutrition Service.

[FR Doc. 2021-04443 Filed 3-3-21; 8:45 am]

BILLING CODE 3410-30-P